DEPARTMENT OF HEALTH AND HUMAN SERVICES

Centers for Disease Control and Prevention

Notice of Award of a Single-Source Cooperative Agreement To Fund the Public Health Accreditation Board (PHAB)

AGENCY: Centers for Disease Control and Prevention (CDC), Department of Health and Human Services (HHS).

ACTION: Notice.

SUMMARY: The Centers for Disease Control and Prevention (CDC), located within the Department of Health and Human Services (HHS), announces the award of approximately $935,000, with an expected total funding of approximately $4,675,000 over a five-year period, to Public Health Accreditation Board (PHAB).

DATES: The period for this award will be July 1, 2023 through June 30, 2028.

FOR FURTHER INFORMATION CONTACT: Liza Corso, Center for State, Tribal, Local and Territorial Support, Centers for Disease Control and Prevention, 1600 Clifton Road, Atlanta, GA 30329-4027 USA, Telephone: 1-800-CDC-INFO (1-800-232-4636), Email: CSTLTSfeedback@cdc.gov.

SUPPLEMENTARY INFORMATION: The single-source award will support the operations and continuous improvement of a national accreditation program for state, tribal, local, and territorial public health departments. Through this project, CDC will support the awardee to (1) provide education regarding accreditation; (2) improve and/or develop new products to ensure a relevant, current, and smoothly functioning program; (3) monitor emerging issues, foster innovation, and strengthen strategic partnerships to support and advance accreditation; (4) strengthen the evidence base for the use of accreditation to advance public health practice; and (5) develop and/or continuously improve accreditation standards, programs, and/or products for programmatic or focused areas of public health services.

PHAB is in a unique position to conduct this work, as it is widely recognized by health departments, national organizations, and federal agencies as the only national accrediting body for state, tribal, local, and territorial health departments. PHAB is a non-profit organization that has the infrastructure necessary to support the accreditation program, including staff, a heavily engaged Board of Directors, national consensus standards and measures developed with extensive input from the field, documentation guidance, and an assessment process. PHAB has continuously improved their standards and tools, including using a robust public vetting process to develop and release updated versions of the standards in 2014 and 2022; and launching the Pathways Recognition Program in 2022 for local, tribal, and territorial health departments who seek recognition for their performance improvement efforts and to facilitate accreditation readiness.

Summary of the Award

Recipient: Public Health Accreditation Board (PHAB).

Purpose of the Award: The purpose of this award is to support the operations and continuous improvement of a national accreditation program for state, tribal, local, and territorial public health departments. As of March 2022, 91% of the U.S. population is served by a PHAB-accredited health department; an increase from 58% of the U.S. population in April 2017. Continued support for the national accreditation program is critical.

Amount of Award: $935,000 in Federal Fiscal Year (FFY) 2023 funds, with a total estimated $4,675,000 for the five-year period of performance, subject to availability of funds.

Authority: This program is authorized under Section 317(k)(2) of the Public Health Service Act, [42 U.S.C. 241(a) and 247 b(k)(2), as amended].

Period of Performance: July 1, 2023 through June 30, 2028.

Dated: November 2, 2022.
Terrance Perry,
Chief Grants Management Officer, Centers for Disease Control and Prevention.

[FR Doc. 2022-24199 Filed 11-4-22; 8:45 am]

BILLING CODE 4163-18-P